DEPARTMENT OF TRANSPORTATION

Federal Aviation Administration

[Summary Notice No. PE-2002-49]

Petitions for Exemption; Dispositions of Petitions Issued

AGENCY: Federal Aviation Administration (FAA), DOT.

ACTION: Notice of dispositions of prior petitions for exemption.

SUMMARY: Pursuant to FAA's rulemaking provisions governing the application, processing, and disposition of petitions for exemption part 11 of Title 14, Code of Federal Regulations (14 CFR), this notice contains a summary of dispositions of certain petitions previously received. The purpose of this notice is to improve the public's awareness of, and participation in, this aspect of FAA's regulatory activities. Neither publication of this notice nor the inclusion or omission of information in the summary is intended to affect the legal status of any petition.

FOR FURTHER INFORMATION CONTACT: Forest Rawls (202) 267-8033, Sandy Buchanan-Sumter (202) 267-7271, Vanessa Wilkins (202) 267-8029, or Denise Emrick (202) 267-5174, Office of Rulemaking (ARM-1), Federal Aviation Administration, 800 Independence Avenue, SW., Washington, DC 20591.

This notice is published pursuant to 14 CFR 11.85 and 11.91.

Issued in Washington, DC on August 1, 2002.
Donald P. Byrne,
Assistant Chief Counsel for Regulations.

Dispositions of Petitions

Docket No.: FAA-2002-11925.

Petitioner: Helicopters, Inc.

Section of 14 CFR Affected:

14 CFR § 135.143(c)(2).

Description of Relief Sought/Disposition: To permit Helicopters to operate certain aircraft under part 135 without a TSO-C112 (Modes S) transponder installed in the aircraft. Grant/June 3, 2002, Exemption No. 7788

Docket No.: FAA-2002-12110.

Petitioner: Nassau Helicopter.

Section of 14 CFR Affected: 14 CFR § 135.143(c)(2).

Description of Relief Sought/Disposition: To permit Nassau to operate certain aircraft under part 135 without a TSO-C112 (Modes S) transponder installed in the aircraft. Grant/June 3, 2002, Exemption No. 7787

Docket No.: FAA-2002-12255.

Petitioner: Rogers Helicopters, Inc.

Section of 14 CFR Affected: 14 CFR 135.152(a).

Description of Relief Sought/Disposition: To permit Rogers to operate 6 Bell 212 helicopters (Registration Nos. N911HW, N911VR, N911KW, N873HL, N811KA, and N212HL; and Serial Nos. 31101, 30998, 30592, 30873, 30656, and 30621, respectively) under part 135 without those helicopters being equipped with an approved digital flight data recorder (DFDR). Grant/May 31, 2002, Exemption No. 7789

Docket No.: FAA-2002-12340.

Petitioner: Moody Aviation.

Section of 14 CFR Affected: 14 CFR §§ 135.251, 135.255, and 135.353, and appendices I and J to part 121.

Description of Relief Sought/Disposition: To permit Moody to conduct local sightseeing flights at the Elizabethton Municipal Airport, for sightseeing flights during its annual community event on June 8, 2002, for compensation or hire without complying with certain anti-drug and alcohol misuse prevention requirements of part 135. Grant/June 4, 2002, Exemption No. 7791

Docket No.: FAA-2002-11572.

Petitioner: Capital City Air Carrier, Inc.

Section of 14 CFR Affected: 14 CFR § 135.143(c)(2).

Description of Relief Sought/Disposition: To permit Capital to operate certain aircraft under part 135 without a TSO-C112 (Modes S) transponder installed in the aircraft. Grant/June 4, 2002, Exemption No. 7792

Docket No.: FAA-2002-11575.

Petitioner: Rhinelander Flying Service, Inc.

Section of 14 CFR Affected: 14 CFR § 135.143(c)(2).

Description of Relief Sought/Disposition: To permit Rhinelander to operate certain aircraft under part 135 without a TSO-C112 (Modes S) transponder installed in the aircraft.

Grant/June 4, 2002, Exemption No. 7793

Docket No.: FAA-2002-12252.

Petitioner: Biplane Adventures, Inc.

Section of 14 CFR Affected: 14 CFR § 135.143(c)(2).

Description of Relief Sought/Disposition: To permit Biplane Adventures Inc to operate certain aircraft under part 135 without a TSO-C112 (Modes S) transponder installed in the aircraft. Grant/June 4, 2002, Exemption No. 7797

Docket No.: FAA-2002-11576.

Petitioner: Averitt Air, Inc.

Section of 14 CFR Affected: 14 CFR § 135.143(c)(2).

Description of Relief Sought/Disposition: To permit Averitt to operate certain aircraft under part 135 without a TSO-C112 (Modes S) transponder installed in the aircraft. Grant/June 4, 2002, Exemption No. 7796

Docket No.: FAA-2002-12336.

Petitioner: Womack Aviation.

Section of 14 CFR Affected: 14 CFR § 135.143(c)(2).

Description of Relief Sought/Disposition: To permit Womack to operate certain aircraft under part 135 without a TSO-C112 (Modes S) transponder installed in the aircraft. Grant/June 4, 2002, Exemption No. 7795

Docket No.: FAA-2002-12124.

Petitioner: Wright Air Service, Inc.

Section of 14 CFR Affected: 14 CFR § 135.143(c)(2).

Description of Relief Sought/Disposition: To permit Wright to operate certain aircraft under part 135 without a TSO-C112 (Modes S) transponder installed in the aircraft. Grant/June 4, 2002, Exemption No. 7794

Docket No.: FAA-2002-12254.

Petitioner: North Flight EMS.

Section of 14 CFR Affected:14 CFR § 135.143(c)(2).

Description of Relief Sought/Disposition: To permit North Flight EMS to operate certain aircraft under part 135 without a TSO-C112 (Modes S) transponder installed in the aircraft. Grant/June 6, 2002, Exemption No. 7803

Docket No.: FAA-2002-11929.

Petitioner: Delta Aviation, LLC.

Section of 14 CFR Affected:14 CFR § 135.143(c)(2).

Description of Relief Sought/Disposition:To permit Delta to operate certain aircraft under part 135 without a TSO-C112 (Modes S) transponder installed in the aircraft. Grant/June 6, 2002, Exemption No. 7802

Docket No.: FAA-2000-8141.

Petitioner: Mr. Leon C. Braswell.

Section of 14 CFR Affected:14 CFR § 135.143(c)(2).

Description of Relief Sought/Disposition:To permit Mr. Leon C. Braswell to operate certain aircraft under part 135 without a TSO-C112 (Modes S) transponder installed in the aircraft. Grant/June 6, 2002, Exemption No. 7398A

Docket No.: FAA-2001-11059.

Petitioner: Jerrold W. Braswell.

Section of 14 CFR Affected:14 CFR § 135.143(c)(2).

Description of Relief Sought/Disposition: To permit Mr. Jerrold W. Braswell to operate certain aircraft under part 135 without a TSO-C112 (Modes S) transponder installed in the aircraft. Grant/June 6, 2002, Exemption No. 7674A

Docket No.: FAA-2002-11949.

Petitioner: Aviation Services Group, Inc.

Section of 14 CFR Affected:14 CFR § 135.143(c)(2).

Description of Relief Sought/Disposition: To permit Aviation Services Group to operate certain aircraft under part 135 without a TSO-C112 (Modes S) transponder installed in the aircraft. Grant/June 6, 2002, Exemption No. 7807

Docket No.: FAA-2002-12400.

Petitioner: Kelso Flight Service, Inc.

Section of 14 CFR Affected:14 CFR § 135.143(c)(2).

Description of Relief Sought/Disposition:To permit Kelso to operate certain aircraft under part 135 without a TSO-C112 (Modes S) transponder installed in the aircraft. Grant/June 6, 2002, Exemption No. 7804

Docket No.: FAA-2002-12125.

Petitioner: Air Logistics of Alaska, Inc.

Section of 14 CFR Affected:14 CFR § 135.143(c)(2).

Description of Relief Sought/Disposition: To permit Air Logistics to operate certain aircraft under part 135 without a TSO-C112 (Modes S) transponder installed in the aircraft. Grant/June 6, 2002, Exemption No. 7805

Docket No.: FAA-2002-12251.

Petitioner: Priority Air, Inc.

Section of 14 CFR Affected:14 CFR § 135.143(c)(2).

Description of Relief Sought/Disposition: To permit Priority to operate certain aircraft under part 135 without a TSO-C112 (Modes S) transponder installed in the aircraft. Grant/June 6, 2002, Exemption No. 7806

Docket No.: FAA-2002-11495.

Petitioner: Federal Express Corporation.

Section of 14 CFR Affected: 14 CFR § 121.345(c)(2).

Description of Relief Sought/Disposition: To permit Mountain Air Cargo to operate certain aircraft under part 135 without a TSO-C112 (Modes S) transponder installed in the aircraft. Grant/June 6, 2002, Exemption No. 7801

Docket No.: FAA-2002-11424.

Petitioner: Empire Airlines.

Section of 14 CFR Affected: 14 CFR § 121.345(c)(2).

Description of Relief Sought/Disposition: To permit Empire to operate certain aircraft under part 121 without a TSO-C112 (Modes S) transponder installed in the aircraft. Grant/June 6, 2002, Exemption No. 7800

Docket No.: FAA-2002-11938.

Petitioner: Friends of Allen County Airport.

Section of 14 CFR Affected: 14 CFR §§ 135.251, 135.255, and 135.353, and appendices I and J to part 121.

Description of Relief Sought/Disposition: To permit Friends of Allen County Airport to conduct local sightseeing flights at Allen County Airport, Iola, Kansas, for a fly-in and open house on June 15, 2002, for compensation or hire, without complying with certain anti-drug and alcohol misuse prevention requirements of part 135. Grant/June 12, 2002, Exemption No. 7808

Docket No.: FAA-2002-11988.

Petitioner: Alpine Air, Inc.

Section of 14 CFR Affected:14 CFR § 135.143(c)(2).

Description of Relief Sought/Disposition: To permit Alpine to operate certain aircraft under part 135 without a TSO-C112 (Modes S) transponder installed in the aircraft. Grant/June 12, 2002, Exemption No. 7267A

Docket No.: FAA-2002-12465.

Petitioner: Air Methods Corporation.

Section of 14 CFR Affected: 14 CFR § 135.143(c)(2).

Description of Relief Sought/Disposition: To permit Air Methods Corporation to operate certain aircraft under part 135 without a TSO-C112 (Modes S) transponder installed in the aircraft. Grant/June 12, 2002, Exemption No. 5720D

Docket No.: FAA-2002-11595.

Petitioner: American Eagle Airlines, Inc.

Section of 14 CFR Affected:14 CFR § 121.434(c)(1)(ii).

Description of Relief Sought/Disposition: To permit American Eagle to substitute a qualified and authorized check airman in place of an FAA inspector to observe a qualifying pilot in command (PIC) while that PIC is performing prescribed duties during at least one flight leg that includes a takeoff and a landing when completing initial or upgrade training as specified in § 121.424. Grant/June 13, 2002, Exemption No. 7252A

Docket No.: FAA-2002-12168.

Petitioner: West Bend Air, Inc.

Section of 14 CFR Affected:14 CFR §§ 135.251, 135.255, 135.353, and appendices I and J to part 121.

Description of Relief Sought/Disposition: To permit West Bend to conduct local sightseeing flights without complying with certain anti-drug and alcohol misuse prevention requirements of part 135. Denial/June 14, 2002, Exemption No. 7786A

Docket No.: FAA-2002-12455

Petitioner: Air Transport Association of American.

Section of 14 CFR Affected: 14 CFR §§ 61.3(a) and (c), 63.3(a) and 121.383(a)(2) Description of Relief Sought/Disposition: To permit an air carrier to issue written confirmation of an FAA-issued crewmember certificate to a flight crewmember employed by that air carrier based on information in the air carrier's approved record system. Grant/June 13, 2002, Exemption No. 5487E

Docket No.: FAA-2002-12123.

Petitioner: Bonanza/Baron Pilot Proficiency Programs, Inc.

Section of 14 CFR Affected:14 CFR § 91.109(a) and (b)(3)

Description of Relief Sought/Disposition: To permit Bonanza/Baron Pilot Proficiency Programs, Inc. and American Bonanza Society/Air Safety Foundation to conduct certain flight instruction and simulated instrument flights to meet the recent experience requirements in Beechcraft Bonanza, Baron and Travel Air airplanes equipped with a functioning throwover control wheel in place of functioning dual controls. Grant/June 13, 2002, Exemption No. 7810

Docket No.: FAA-2002-11578.

Petitioner: Northwest Seaplanes, Inc.

Section of 14 CFR Affected:14 CFR § 135.203(a)(1).

Description of Relief Sought/Disposition: To permit Northwest Seaplanes to conduct operations outside controlled airspace, over water, at an altitude below 500 feet above the surface but not less than 200 feet above the surface. Grant/June 18, 2002, Exemption No. 6461D

Docket No.: FAA-2001-10967.

Petitioner: Experimental Aircraft Association.

Section of 14 CFR Affected: 14 CFR §§ 135.251, 135.255, and 135.353, and appendixes I and J to part 121

Description of Relief Sought/Disposition: To permit EAA members to conduct local sightseeing flights at charity or community events, for compensation or hire, without complying with certain anti-drug and alcohol misuse prevention program requirements of part 135. Grant/June 25, 2002, Exemption No. 7111B

Docket No.: FAA-2002-12416.

Petitioner: Air Transport Association of America

Section of 14 CFR Affected: 14 CFR 121.309(f)(2).

Description of Relief Sought/Disposition: To permit ATA-member airlines to located the aft megaphone at door 4-left on their Boeing 747 aircraft. Grant/June 21, 2002, Exemption No. 7818

Docket No.: FAA-2002-11851.

Petitioner: IFL Group, Inc.

Section of 14 CFR Affected:14 CFR § 135.152.

Description of Relief Sought/Disposition: To permit IFL to operate one General Dynamics Convair 440/580 airplane under part 135 without that airplane being equipped with an 18-parameter digital flight data recorder (DFDR). Denial/June 21, 2002, Exemption No. 7817

Docket No.: FAA-2002-12119.

Petitioner: Wadsworth Airport Management Corporation

Section of 14 CFR Affected: 14 CFR §§ 135.251, 135.255, and 135.353, and appendixes I and J to part 121.

Description of Relief Sought/Disposition: To permit Wadsworth to conduct local sightseeing flights at the Wadsworth Municipal Airport in Wadsworth, Ohio, for the Wadsworth Balloon Festival on September 20, 21, and 22, 2002, for compensation or hire, without complying with certain anti-drug and alcohol misuse prevention requirements of part 135. Grant/June 26, 2002, Exemption No. 7822

Docket No.: FAA-2001-9812.

Petitioner: Red Baron Flyers, Inc.

Section of 14 CFR Affected:14 CFR §§ 135.251, 135.255, and 135.353, and appendices I and J to part 121.

Description of Relief Sought/Disposition: To permit Red Baron Flyers Inc to conduct local sightseeing flights at Houston County Airport, Caledonia, Minnesota, for it's annual fly-in breakfast on June 30, 2002, for compensation or hire, without complying with certain anti-drug and alcohol misuse prevention requirements of part 135. Grant/June 26, 2002, Exemption No. 7824

Docket No.: FAA-2002-12431.

Petitioner: Plainwell Pilots Association.

Section of 14 CFR Affected: 14 CFR §§ 135.251, 135.255, and 135.353, and appendices I and J to part 121

Description of Relief Sought/Disposition: To permit Plainwell Pilots Association to conduct local sightseeing flights in the vicinity of Plainwell, Michigan, for fundraising events on July 4, 27, and 28, 2002, for compensation or hire, without complying with certain anti-drug and alcohol misuse prevention requirements of part 135. Grant/June 26, 2002, Exemption No. 7823

Docket No.: FAA-2002-11927.

Petitioner: ERA Aviation, Inc.

Section of 14 CFR Affected: 14 CFR § 121.313(f).

Description of Relief Sought/Disposition: To permit Era to operate two Douglas DC-3 (DC-3) airplanes with the flightdeck door open during all phases of flight. Denial/June 20, 2002, Exemption No. 7819

Docket No.: FAA-2001-10622.

Petitioner: Papillon Airways, Inc., dba Papillon Grand Canyon Helicopters.

Section of 14 CFR Affected: 14 CFR § 135.265(d).

Description of Relief Sought/Disposition: To permit Papillon to schedule its flight crewmembers to work 7 consecutive days then relieve them from all further duty for 7 consecutive days. Denial/June 20, 2002, Exemption No. 7820

Docket No.: FAA-2001-9500.

Petitioner: Stephen J. Walsh.

Section of 14 CFR Affected: 14 CFR § 61.159(c)(2)(ii) and (iii).

Description of Relief Sought/Disposition: To permit Mr. Walsh to use his military flight engineer time toward the 1,500-hour flight time requirement for an airline transport pilot (ATO) certificate. Denial/June 24, 2002, Exemption No. 7825

Docket No.: FAA-2002-12590.

Petitioner: United States Hang Gliding Association.

Section of 14 CFR Affected: 14 CFR §§ 91.309 and 103.1(b).

Description of Relief Sought/Disposition: To permit United States Hang Gliding Association members to tow unpowered ultralight vehicles (hang gliders) using powered ultralight vehicles. Grant/June 28, 2002, Exemption No. 4144I

Docket No.: FAA-2002-11756.

Petitioner: Continental Airlines, Inc.

Section of 14 CFR Affected:14 CFR § 121.434(c)(1)(ii).

Description of Relief Sought/Disposition: To permit Continental to substitute a qualified and authorized check airman in place of a FAA inspector to observe a qualifying pilot in command who is completing the initial or upgrade training specified in § 121.424 during at least one flight leg that includes a takeoff and a landing, subject to certain conditions and limitations. Grant/June 28, 2002, Exemption No. 6783B

Docket No.: FAA-2002-12343.

Petitioner: Federal Express Corporation.

Section of 14 CFR Affected: 14 CFR § 121.434(c)(1)(ii).

Description of Relief Sought/Disposition: To permit FedEx to substitute a qualified and authorized check airman in place of a FAA inspector to observe a qualifying pilot in command who is completing the initial or upgrade training specified in § 121.424 during at least one flight leg that includes a takeoff and a landing, subject to certain conditions and limitations. Grant/June 28, 2002, Exemption No. 6473C

Docket No.: FAA-2002-12484.

Petitioner: Dynamic Aviation Group, Inc.

Section of 14 CFR Affected:14 CFR § 137.53(c)(2).

Description of Relief Sought/Disposition: To permit pilots employed by Dynamic to conduct aerial applications of insecticides or pheromones from aircraft not equipped with a load jettisoning system. Grant/July 1, 2002, Exemption No. 7827

Docket No.: FAA-2002-12474.

Petitioner: Michael T. Kane.

Section of 14 CFR Affected: 14 CFR § 61.153(a).

Description of Relief Sought/Disposition: To permit Michael T. Kane to obtain an airline transport pilot (ATP) certificate before reaching 23 years of age. Denial/July 1, 2002, Exemption No. 7828

Docket No.: FAA-200-12171.

Petitioner: Universal Airlines, Inc.

Section of 14 CFR Affected:14 CFR § 91.9(a).

Description of Relief Sought/Disposition: To permit Universal Airlines Inc to operate its DC-6A and DC-6B aircraft, registration Nos. N170UA(45518), N500UA (44597), and N600UA (44894), at a 5 percent increased zero fuel and landing weight for the purpose or operating all cargo aircraft under the terms of part 125. Grant/July 1, 2002, Exemption No. 7829

Docket No.: FAA-2002-12133.

Petitioner: SkyWest Airlines, Inc.

Section of 14 CFR Affected:14 CFR § 121.463(c)

Description of Relief Sought/Disposition: To permit SkyWest to substitute the Canadair Regional Jet Bombardier CRJ CL-65 airplane (CL-65) in place of the Embraer EMB-120 Brasilia airplane (EMB-120) for the purpose of allowing certain dispatchers to accomplish the operating familiarization during the completion of recurrent training. Grant/July 11, 2002, Exemption No. 7780A

Docket No.: FAA-2002-12485.

Petitioner: Joseph Castasus.

Section of 14 CFR Affected: 14 CFR §§ 121.311(b) and 135.128(a).

Description of Relief Sought/Disposition: To permit Joseph to travel in either an Ortho Kinetics Travel Chair Model 6332 or a Meru Travel Chair rather than in an individual seat with a seatbelt about him while traveling on an air carrier certificated under part 119 for part 121 or 135 service. Grant/July 2, 2002, Exemption No. 7831

Docket No.: FAA-2002-11986.

Petitioner: Experimental Aircraft Association, Inc.

Section of 14 CFR Affected:14 CFR §§ 61.101(a)(2) and 61.113(a).

Description of Relief Sought/Disposition: To permit volunteer pilots who hold private or recreational pilot certificates to conduct EAA Young Eagles flights for compensation to include meals for the participants, aircraft operating expenses, aircraft and airport security costs, and logging of flight time as pilot in command (PIC). Partial Grant/July 2, 2002, Exemption No. 7830

Docket No.: FAA-2002-12721.

Petitioner: Ashland County Airport.

Section of 14 CFR Affected: 14 CFR §§ 135.251, 135.255, and 135.353, and appendices I and J to part 121.

Description of Relief Sought/Disposition: To permit Ashland and Johnston to conduct local sightseeing flights at Ashland County Airport, Ashland, Ohio, for their annual Open House and Fall Foilage flights on July 14, 2002, and October 12, 2002, for compensation or hire, without complying with certain anti-drug and alcohol misuse prevention requirements of part 135. Grant/July 12, 2002, Exemption No. 7832

Docket No.: FAA-2001-9237.

Petitioner: Petroleum Helicopters, Inc., & Air Logistics, LLC

Section of 14 CFR Affected: 14 CFR § 135.293(b).

Description of Relief Sought/Disposition: To permit Petroleum Helicopters Inc and Air Logistics to consider the Bell Model 212, 412, and 412EP helicopters as a single type helicopter for pilot testing, training, and checking. Denial/July 12, 2002, Exemption No. 7834

Docket No.: FAA-2001-9925.

Petitioner: James I. Hamilton, Jr. and Arctic Air Alaska, Inc.

Section of 14 CFR Affected:14 CFR § 135.203(a)(1).

Description of Relief Sought/Disposition: To permit James I. Hamilton Jr., and Arctic Air Alaska to conduct operations less than 500 feet above the ground. Denial/June 13, 2002, Exemption No. 7809

[FR Doc. 02-19851 Filed 8-16-02; 8:45 am]

BILLING CODE 4910-13-P